DEPARTMENT OF THE INTERIOR

Fish and Wildlife Service

[FWS-R8-R-2009-N236; 80230-1265-0000-S3]

Upper Klamath, Lower Klamath, Tule Lake, Bear Valley, and Clear Lake National Wildlife Refuges, Klamath County, OR, Siskiyou and Modoc Counties, CA

AGENCY: Fish and Wildlife Service, Interior.

ACTION: Notice of intent to prepare a comprehensive conservation plan and environmental impact statement; request for comments.

SUMMARY: We, the Fish and Wildlife Service (Service), intend to prepare a Comprehensive Conservation Plan (CCP) and Environmental Impact Statement (EIS) for Upper Klamath, Lower Klamath, Tule Lake, Bear Valley, and Clear Lake National Wildlife Refuges (Refuges) located in Klamath County, Oregon, and Siskiyou and Modoc Counties, California. The Refuges are part of the Klamath Basin Complex. We provide this notice in compliance with our CCP policy to advise other Federal and State agencies, Tribes, and the public of our intentions, and to obtain suggestions and information on the scope of issues to consider in the planning process.

DATES: To ensure consideration, we must receive your written comments by June 28, 2010. We will hold public meetings to begin the CCP planning process; see Public Meetings under SUPPLEMENTARY INFORMATION.

ADDRESSES: Send your comments or requests for more information by any of the following methods.

E-mail: R8KlamathCCP@fws.gov. Include “Klamath Basin CCP” in the subject line of the message.

Fax: Attn: Michelle Barry, (530) 667-8337.

U.S. Mail: U.S. Fish and Wildlife Service, Klamath Basin National Wildlife Refuge Complex, 4009 Hill Road, Tulelake, CA 96134.

In-Person Drop off: You may drop off comments during regular business hours, 8 a.m. to 4:30 p.m., Monday through Friday, at Klamath Basin National Wildlife Refuges, 4009 Hill Road, Tulelake, CA 96134. Additional information about the CCP planning process is available on the Internet at http://www.fws.gov/klamathbasinrefuges.

FOR FURTHER INFORMATION CONTACT: Michelle Barry, Refuge Planner at (530) 667-2231.

SUPPLEMENTARY INFORMATION:

Introduction

With this notice, we initiate our process for developing a CCP for Upper Klamath, Lower Klamath, Tule Lake, Bear Valley, and Clear Lake Refuges located in Klamath County, Oregon, and Siskiyou and Modoc Counties, California. This notice complies with our CCP policy to: (1) Advise other Federal and State agencies, Tribes, and the public of our intention to conduct detailed planning on this refuge and (2) obtain suggestions and information on the scope of issues to consider in the environmental document and during development of the CCP.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the National Wildlife Refuge System is established for specific purposes. We use these purposes as the foundation for developing and prioritizing the management goals and objectives for each refuge within the National Wildlife Refuge System, and to determine how the public can use each refuge. The planning process is a way for us and the public to evaluate management goals and objectives that will ensure the best possible approach to wildlife, plant, and habitat conservation, while providing for wildlife-dependent recreation opportunities that are compatible with each refuge's establishing purposes and the mission of the National Wildlife Refuge System.

Our CCP process provides participation opportunities for Tribal, State, and local governments; agencies; organizations; and the public. At this time we encourage input in the form of issues, concerns, ideas, and suggestions for the future management of Klamath Refuges.

We will conduct the environmental review of this project in accordance with the requirements of the National Environmental Policy Act of 1969, as amended (NEPA) (42 U.S.C. 4321 et seq.); NEPA regulations (40 CFR parts 1500-1508); other appropriate Federal laws and regulations; and our policies and procedures for compliance with those laws and regulations.

Klamath Refuges

Upper Klamath National Wildlife Refuge was established by President Calvin Coolidge in 1928 as a “refuge and breeding ground for birds and wild animals” (Executive Order 4851). The Refuge comprises 15,000 acres, mostly freshwater hardstem-cattail marsh and open water, along with 30 acres of forested uplands. These habitats serve as excellent nesting and brood rearing areas for waterfowl and colonial nesting birds, including American white pelican and several heron species. Bald eagle and osprey nest nearby and can sometimes be seen fishing in refuge waters.

The Lower Klamath National Wildlife Refuge was established by President Theodore Roosevelt in 1908 as a “preserve and breeding ground for native birds” (Executive Order 924). Located in rural northeastern California and southern Oregon, Lower Klamath NWR was the nation's first waterfowl refuge. The Refuge, with a backdrop of 14,000-foot Mount Shasta to the southwest, is listed in the National Register of Historic Places as both a National Historic Landmark and a National Natural Landmark. The 50,092-acre refuge is a varied mix of intensively managed shallow marshes, open water, grassy uplands, and croplands that provide feeding, resting, nesting, and brood-rearing habitat for waterfowl and other water birds. This refuge is one of the most biologically productive refuges within the Pacific Flyway.

Tule Lake National Wildlife Refuge is located in the fertile and intensively farmed Tule Lake Basin of northeast California. It was established in 1928 by President Calvin Coolidge “as a preserve and breeding ground for wild birds and animals” (Executive Order 4975). This 39,116-acre refuge contains about 14,000 acres of open water and marsh surrounded by 8,000 acres of uplands and 17,000 acres of croplands.

Bear Valley National Wildlife Refuge was established in 1978 under the authority of the Endangered Species Act to protect a major night roost site for wintering bald eagles in Southern Oregon. The refuge consists of 4,200 acres, primarily of old growth ponderosa pine, incense cedar, and white and Douglas fir. Bear Valley National Wildlife Refuge also provides nesting habitat for several bald eagle pairs.

Clear Lake National Wildlife Refuge was established by President William Taft in 1911 as a “preserve and breeding ground for native birds” (Executive Order 1332). Located in northeastern California, the Refuge consists of approximately 20,000 acres of open water surrounded by over 26,000 acres of upland bunchgrass, low sagebrush, and juniper habitat. Small, rocky islands in the lake provide nesting sites for American white pelicans, double-crested cormorants, and other colonial nesting birds.

The Klamath Basin Refuges consist of a variety of habitats, including freshwater marshes, open water, grassy meadows, coniferous forests, sagebrush and juniper grasslands, agricultural lands, and rocky cliffs and slopes. These habitats support diverse and abundant populations of resident and migratory wildlife, with 433 species having been observed on or near the Refuges. In addition, each year the Refuges serve as a migratory stopover for about three-quarters of the Pacific Flyway waterfowl, with peak fall concentrations of over 1 million birds.

Public Meetings

We will give the public an opportunity to provide input on the scope of issues to consider in this planning process at public meetings. We will announce the dates, times, and locations of these meetings in local news media and on our Web site. You may also submit comments anytime during the planning process by mail, e-mail, or fax (see ADDRESSES). There will be additional opportunities to provide input once we have prepared a draft CCP.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: April 21, 2010.
Ken McDermond,
Acting Regional Director, Pacific Southwest Region, Sacramento, California.

[FR Doc. 2010-9949 Filed 4-28-10; 8:45 am]

BILLING CODE 4310-55-P